Proclamation 9080 of January 31, 2014

National African American History Month, 2014

By the President of the United States of America

A Proclamation

Americans have long celebrated our Nation as a beacon of liberty and opportunity—home to patriots who threw off an empire, refuge to multitudes who fled oppression and despair. Yet we must also remember that while many came to our shores to pursue their own measure of freedom, hundreds of thousands arrived in chains. Through centuries of struggle, and through the toil of generations, African Americans have claimed rights long denied. During National African American History Month, we honor the men and women at the heart of this journey—from engineers of the Underground Railroad to educators who answered a free people's call for a free mind, from patriots who proved that valor knows no color to demonstrators who gathered on the battlefields of justice and marched our Nation toward a brighter day.

As we pay tribute to the heroes, sung and unsung, of African-American history, we recall the inner strength that sustained millions in bondage. We remember the courage that led activists to defy lynch mobs and register their neighbors to vote. And we carry forward the unyielding hope that guided a movement as it bent the arc of the moral universe toward justice. Even while we seek to dull the scars of slavery and legalized discrimination, we hold fast to the values gained through centuries of trial and suffering.

Every American can draw strength from the story of hard-won progress, which not only defines the African-American experience, but also lies at the heart of our Nation as a whole. This story affirms that freedom is a gift from God, but it must be secured by His people here on earth. It inspires a new generation of leaders, and it teaches us all that when we come together in common purpose, we can right the wrongs of history and make our world anew.

NOW, THEREFORE, I, BARACK OBAMA, President of the United States of America, by virtue of the authority vested in me by the Constitution and the laws of the United States, do hereby proclaim February 2014 as National African American History Month. I call upon public officials, educators, librarians, and all the people of the United States to observe this month with appropriate programs, ceremonies, and activities.

IN WITNESS WHEREOF, I have hereunto set my hand this thirty-first day of January, in the year of our Lord two thousand fourteen, and of the Independence of the United States of America the two hundred and thirty-eighth.

[FR Doc. 2014-02535

Filed 2-4-14; 8:45 am]

Billing code 3295-F4